DEPARTMENT OF TRANSPORTATION

Federal Motor Carrier Safety Administration

[Docket No. FMCSA-2006-25074]

Notice of Request for Comments on Extension of a Currently Approved Information Collection: OMB Control Number 2126-0031 (Annual and Quarterly Report of Class I Motor Carriers of Passengers) (Formerly OMB 2129-0003)

AGENCY: Federal Motor Carrier Safety Administration (FMCSA), DOT.

ACTION: Notice; request for comments.

SUMMARY: In accordance with the Paperwork Reduction Act of 1995, the Federal Motor Carrier Safety Administration announces its intent to submit a currently approved Information Collection Request (ICR), Annual and Quarterly Report of Class I Motor Carriers of Passengers, to the Office of Management and Budget (OMB) for review and approval. The ICR describes the relevant information collection activities and their expected costs and burdens. The Agency published a Federal Register notice providing a 60-day comment period on this ICR in April 2006 (71 FR 18136, Apr. 10, 2006). The Agency received two comments in support of continuation of this information collection.

DATES: Comments must be submitted on or before August 14, 2006. A comment to OMB is most effective if OMB receives it within 30 days of this publication.

ADDRESSES: Send comments to the Office of Information and Regulatory Affairs, Office of Management and Budget, 725 Seventeenth Street, NW., Washington, DC 20503, Attention: DOT/FMCSA Desk Officer.

FOR FURTHER INFORMATION CONTACT: Ms. Toni Proctor, Federal Motor Carrier Safety Administration, Office of Research and Analysis, Washington, DC 20590; phone (202) 366-2998; Fax (202) 366-3518; e-mail Toni.Proctor@dot.gov. Office hours are from 8 a.m. to 4 p.m., e.t., Monday through Friday, except Federal holidays.

SUPPLEMENTARY INFORMATION: Title: Annual and Quarterly Report of Class I Motor Carriers of Passengers (formerly OMB Control Number 2129-0003). On September 29, 2004, the Secretary of Transportation (Secretary) transferred this information collection (IC) from the Bureau of Transportation Statistics (BTS), now a part of the Research and Innovative Technology Administration (RITA), to the Federal Motor Carrier Safety Information (FMCSA) (69 FR 51009, Aug. 17, 2004).

FMCSA IC: OMB Control No. 2126-0031.

Form No.: MP-1.

Type of Review: Extension of a currently approved information collection.

Respondents: Class I Motor Carriers of Passengers.

Number of Respondents: 26.

Estimated Time Per Response: 1.5 hours.

Expiration Date: August 31, 2006.

Frequency: Quarterly and Annually.

Total Annual Burden: 195 hours [130 responses x 1.5 hour per response = 195 hours].

Background

The Annual and Quarterly Report of Class I Motor Carriers of Passengers is a mandated reporting requirement applicable to certain motor carriers of passengers. Motor carriers (both interstate and intrastate) subject to the Federal Motor Carrier Safety Regulations are classified on the basis of their gross carrier operating revenues.¹ Class I passenger motor carriers are required to file with the Agency motor carrier quarterly and annual reports (Form MP-1) providing financial and operating data (see 49 U.S.C. 14123). Under the financial and operating statistics (F&OS) program, FMCSA collects balance sheet and income statement data along with information on tonnage, mileage, employees, transportation equipment, and related data. The Agency uses this information to assess the health of the industry and identify industry changes that could affect national transportation policy. The data also indicate company financial stability and operational characteristics. The data and information collected are made publicly available and used by FMCSA to determine a passenger carrier's compliance with the F&OS program requirements set forth in 49 CFR Part 1420.

¹ For purposes of the Financial & Operating Statistics (F&OS) program, passenger carriers are classified into the following two groups: (1) Class I carriers are those having average annual gross transportation operating revenues (including interstate and intrastate) of $5 million or more from passenger motor carrier operations after applying the revenue deflator formula in the Note of 49 CFR 1420.3; (2) Class II passenger carriers are those having average annual gross transportation operating revenues (including interstate and intrastate) of less than $5 million from passenger motor carrier operations after applying the revenue deflator formula as shown in Note A of § 1420.3. Only Class I carriers of passengers are required to file Annual and Quarterly Report Form MP-1, but Class II passenger carriers must notify the Agency when there is a change in their classification or their revenues exceed the Class II limit.

The F&OS reporting regulations were formerly administered by the Interstate Commerce Commission. They were transferred to the U.S. Department of Transportation on January 1, 1996, by Section 103 of the ICC Termination Act of 1995 (ICCTA) (Pub. L. 104-88, 109 Stat. 803, December 29, 1995), now codified at 49 U.S.C. 14123. On September 30, 1998, the Secretary transferred the authority to administer the F&OS program to BTS (63 FR 52192). Effective September 29, 2004, the Secretary transferred this program responsibility from BTS and redelegated it to FMCSA (69 FR 51009, Aug. 17, 2004). FMCSA will publish a final rule that transfers and redesignates the F&OS program reporting requirements, currently at 49 CFR 1420, from BTS (now RITA) to FMCSA.

We particularly request comments on: (1) Whether the proposed collection of information is necessary for FMCSA to meet its goal of reducing commercial motor vehicle crashes, and the usefulness of the information with respect to this goal; (2) the accuracy of the estimated IC burden; (3) ways to enhance the quality, utility, and clarity of the information collected; and (4) ways to minimize the burden of the collection of information on respondents (including use of automated collection techniques and other information technologies) without reducing the quality of the collected information. The Agency will summarize and/or include your comments in the request for OMB approval of this IC.

Issued on: July 7, 2006.
David H. Hugel,
Acting Administrator.

[FR Doc. E6-11140 Filed 7-13-06; 8:45 am]

BILLING CODE 4910-EX-P